Presidential Determination No. 2021-02 of October 27, 2020

Presidential Determination on Refugee Admissions for Fiscal Year 2021

Memorandum for the Secretary of State

By the authority vested in me as President by the Constitution and the laws of the United States, in accordance with section 207 of the Immigration and Nationality Act (the “Act”) (8 U.S.C. 1157), after appropriate consultations with the Congress, and consistent with the Report on Proposed Refugee Admissions for Fiscal Year (FY) 2021 submitted to the Congress on September 30, 2020, I hereby determine and authorize as follows:

The admission of up to 15,000 refugees to the United States during FY 2021 is justified by humanitarian concerns or is otherwise in the national interest. This refugee admissions ceiling incorporates more than 6,000 unused places from the FY 2020 refugee admissions ceiling that might have been used if not for the COVID-19 pandemic.

Refugee admissions during FY 2021 shall be allocated among refugees of special humanitarian concern to the United States in accordance with the following allocations:

1. Refugees who:

• have been persecuted or have a well-founded fear of persecution on account of religion;

or

• are within a category of aliens established under subsections (b) and (c) of section 599D of Title V, Public Law 101-167, as amended (the Lautenberg and Specter Amendments) . . . . . . . . . . . . . . . . . 5,000

2. Refugees who are within a category of aliens listed in section 1243(a) of the Refugee Crisis in Iraq Act of 2007, Title XII, Div. A, Public Law 110-181, as amended . . . . . . . . . . . . . . . . . . . . . . . . . . . . 4,000

3. Refugees who are nationals or habitual residents of El Salvador, Guatemala, or Honduras . . . . . . . . . . . . . . . . . . . . . . . . . . . . . 1,000

4. Other refugees in the following groups:

• those referred to the United States Refugee Admissions Program (USRAP) by a United States Embassy in any location;

• those who will be admitted through a Form I-730 following-to-join petition or who gain access to the USRAP for family reunification through the P-3 process;

• those currently located in Australia, Nauru, or Papua New Guinea who gain access to the USRAP pursuant to an arrangement between the United States and Australia;

• those who are nationals or habitual residents of Hong Kong, Venezuela, or Cuba; and

• those in the USRAP who were in “Ready for Departure” status as of September 30, 2019. . . . . . . . . . . . . . . . . . . . . . . . . 5,000

Total refugee admissions ceiling: . . . . . . . . . . . . . . . . . . 15,000

Additionally, after consultation with the Secretary of Homeland Security, the Secretary of Health and Human Services, and the Attorney General, and upon notification to the appropriate committees of the Congress, you are further authorized to transfer unused admissions from a particular allocation above to one or more other allocations, if there is a need for greater admissions for the allocation to which the admissions will be transferred.

Additionally, I specify that persons from certain high-risk areas of terrorist presence or control, including Somalia, Syria, and Yemen, shall not be admitted as refugees, except those refugees of special humanitarian concern: (1) who have been persecuted or have a well-founded fear of persecution on account of religion; (2) were referred to the USRAP by a United States Embassy in any location; or (3) who will be admitted through a Form I-730 following-to-join petition or who gain access to the USRAP for family reunification through the P-3 process. The threat to United States national security and public safety posed by the admission of refugees from high-risk areas of terrorist presence or control is significant and cannot be fully mitigated at this time.

Consistent with section 101(a)(42) of the Act (8 U.S.C. 1101(a)(42)), and after appropriate consultation with the Congress, I also specify that, for FY 2021, the following persons may, if otherwise qualified, be considered refugees for the purpose of admission to the United States within their countries of nationality or habitual residence:

a. persons in Cuba;

b. persons in Eurasia and the Baltics;

c. persons in Iraq;

d. persons in Honduras, Guatemala, and El Salvador; and

e. in exceptional circumstances, persons identified by a United States Embassy in any location.

Consistent with section 412(a)(2) of the Immigration and Nationality Act (8 U.S.C. 1522(a)(2)), I also specify that, for FY 2021, newly admitted refugees should be placed, to the maximum extent possible, in States and localities that have clearly expressed their willingness to receive refugees under the Department of State's Reception and Placement Program. Such cooperation ensures that refugees are resettled in communities that are eager and equipped to support their successful integration into American society and the labor force.

Consistent with section 2(b)(2) of the Migration and Refugee Assistance Act of 1962 (22 U.S.C. 2601(b)), I hereby determine that assistance to or on behalf of persons applying for admission to the United States as part of the overseas refugee admissions program will contribute to the foreign policy interests of the United States, and I accordingly designate such persons for this purpose.

You are authorized and directed to publish this determination in the Federal Register.

THE WHITE HOUSE,

Washington, October 27, 2020

[FR Doc. 2020-24912

Filed 11-5-20; 11:15 am]

Billing code 4710-10-P